NATIONAL FOUNDATION ON THE ARTS AND THE HUMANITIES

National Endowment for the Arts; Arts Advisory Panel—Notice of Change

Pursuant to Section 10(a)(2) of the Federal Advisory Committee Act (Pub. L. 92-463), as amended, notice is hereby given that the open session for the Music Panel, a discussion and performance with William Bolcom and Joan Morris, has had to be changed due to schedule conflicts. The session, originally scheduled for 12 p.m. to 12:50 p.m. on July 20th, will instead be held from 12 p.m. to 1 p.m. on July 19th.

Further information with reference to these meetings can be obtained from Ms. Kathy Plowitz-Worden, Office of Guidelines & Panel Operations, National Endowment for the Arts, Washington, DC, 20506, or call 202/682-5691.

July 11, 2006.
Kathy Plowitz-Worden,
Panel Coordinator, Panel Operations, National Endowment for the Arts.

[FR Doc. E6-11142 Filed 7-13-06; 8:45 am]

BILLING CODE 7537-01-P